DEPARTMENT OF THE INTERIOR

Bureau of Reclamation

[RR83570000, 156R5065C6, RX.59389832.1009676]

Agency Information Collection Activities; Proposed Renewal of a Currently Approved Information Collection (OMB Control Number 1006-0003)

AGENCY: Bureau of Reclamation, Interior.

ACTION: Notice and request for comments.

SUMMARY: We, the Bureau of Reclamation, intend to seek approval of the following information collection set to expire on September 30, 2015: Bureau of Reclamation Use Authorization Application, 43 CFR 429 (Form 7-2540), OMB Control Number 1006-0003. Before submitting the information collection request to the Office of Management and Budget (OMB) for approval, we are soliciting comments on specific aspects of the information collection.

DATES: Submit written comments on this information collection request on or before January 13, 2015.

ADDRESSES: Send written comments to Greek Taylor, Bureau of Reclamation, Office of Policy and Administration, 84-57000, P.O. Box 25007, Denver, CO 80225-0007; or via email to gtaylor@usbr.gov.

FOR FURTHER INFORMATION CONTACT: Greek Taylor at (303) 445-2895.

SUPPLEMENTARY INFORMATION:

I. Abstract

The Bureau of Reclamation (Reclamation) is responsible for approximately 6.5 million acres of land which directly support Reclamation's Federal water projects in the 17 western states. Individuals or entities wanting to use Reclamation's lands, facilities, or waterbodies must submit an application to gain permission for such uses. Examples of such uses are:

—Agricultural uses such as grazing and farming;

—commercial or organized recreation and sporting activities;

—other commercial activities such as “guiding and outfitting” and “filming and photography;” and

—resource exploration and extraction, including sand and gravel removal and timber harvesting.

Reclamation reviews applications to determine whether granting individual use authorizations is compatible with Reclamation's present or future uses of the lands, facilities, or waterbodies. When we find a proposed use compatible, we advise the applicant of the estimated administrative costs and estimated application processing time. In addition to the administrative costs, we require the applicant to pay a use fee based on a valuation or by competitive bidding. If the application is for construction of a bridge, building, or other significant construction project, Reclamation may require that all plans and specifications be signed and sealed by a licensed professional engineer.

II. Data

OMB Control Number: 1006-0003.

Title: Bureau of Reclamation Use Authorization Application.

Form Number: Form 7-2540.

Frequency: Each time a use authorization is requested.

Respondents: Individuals, corporations, companies, and State and local entities who want to sue Reclamation lands, facilities, or waterbodies.

Estimated Annual Total Number of Respondents: 175.

Estimated Number of Responses per Respondent: 1.

Estimated Total Number of Annual Responses: 175.

Estimated Total Annual Burden on Respondents: 350 hours.

Estimated Completion Time per Respondent: 2 hours.

III. Request for Comments

We invite your comments on:

(a) Whether the collection of information is necessary for the proper performance of our functions, including whether the information will have practical use;

(b) The accuracy of our estimated time and cost burden of the collection of information, including the validity of the methodology and assumptions used;

(c) Ways to enhance the quality, usefulness, and clarity of the information to be collected; and

(d) Ways to minimize the burden of the collection of information on respondents, including increased use of automated collection techniques or other forms of information technology.

We will summarize all comments received regarding this notice. We will publish that summary in the Federal Register when the information collection request is submitted to OMB for review and approval.

Before including your address, phone number, email address, or other personal identifying information in your comment, you should be aware that your entire comment—including your personal identifying information—may be made publicly available at any time. While you can ask us in your comment to withhold your personal identifying information from public review, we cannot guarantee that we will be able to do so.

Dated: November 28, 2014.
Roseann Gonzales,
Director, Policy and Administration.

[FR Doc. 2014-27014 Filed 11-13-14; 8:45 am]

BILLING CODE 4332-90-P